NUCLEAR REGULATORY COMMISSION

Draft Regulatory Guide: Issuance, Availability

AGENCY: Nuclear Regulatory Commission.

ACTION: Notice of Issuance and Availability of Draft Regulatory Guide, DG-1198.

FOR FURTHER INFORMATION CONTACT: John Burke, U.S. Nuclear Regulatory Commission, Washington, DC 20555-0001, telephone: (301) 415-1529 or e-mail to John.Burke@nrc.gov.

SUPPLEMENTARY INFORMATION:

I. Introduction

The U.S. Nuclear Regulatory Commission (NRC) is issuing for public comment a draft regulatory guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide (DG), entitled “Physical Models for Design and Operation of Hydraulic Structures and Systems for Nuclear Power Plants,” is temporarily identified by its task number, DG-1198, which should be mentioned in all related correspondence.

This guide describes the desired coordination of an applicant with the staff of the NRC and the detail and documentation of data and studies that an applicant should include in the preliminary safety analysis report (PSAR) or final safety analysis report (FSAR) to support the use of physical hydraulic model testing for predicting the performance of hydraulic structures and systems for nuclear power plants. The regulatory position of this guide is applicable only to physical models used to predict the action or interaction of surface waters with features located outside of containment. The recommendations of this guide do not apply to internal plant systems or structures.

Title 10, Section 50.34(a)(3)(ii) of the Code of Federal Regulations (10 CFR 50.34(a)(3)(ii)) requires that the PSAR include information on the design bases of the facility and the relation of the design bases to the principal design criteria. In part, 10 CFR 50.34(a)(4) requires a preliminary analysis of the adequacy of structures, systems, and components provided for the prevention of accidents and the mitigation of the consequences of accidents.

II. Further Information

The NRC staff is soliciting comments on DG-1198. Comments may be accompanied by relevant information or supporting data, and should mention DG-1198 in the subject line. Comments submitted in writing or in electronic form will be made available to the public in their entirety through the NRC's Agencywide Documents Access and Management System (ADAMS).

Personal information will not be removed from the comments. Comments may be submitted by any of the following methods:

1. Mail to: Rulemaking, Directives, and Editing Branch, Office of Administration, U.S. Nuclear Regulatory Commission, Washington, DC 20555-0001.

2. E-mail to: NRCREP@nrc.gov.

3. Hand-deliver to: Rulemaking, Directives, and Editing Branch, Office of Administration, U.S. Nuclear Regulatory Commission, 11555 Rockville Pike, Rockville, Maryland 20852, between 7:30 a.m. and 4:15 p.m. on Federal workdays.

4. Fax to: Rulemaking, Directives, and Editing Branch, Office of Administration, U.S. Nuclear Regulatory Commission at (301) 415-5144.

Requests for technical information about DG-1198 may be directed to John Burke at (301) 415-1529 or e-mail to John.Burke@nrc.gov.

Comments would be most helpful if received by September 5, 2008. Comments received after that date will be considered if it is practical to do so, but the NRC is able to ensure consideration only for comments received on or before this date. Although a time limit is given, comments and suggestions in connection with items for inclusion in guides currently being developed or improvements in all published guides are encouraged at any time.

Electronic copies of DG-1198 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML081080301.

In addition, regulatory guides are available for inspection at the NRC's Public Document Room (PDR), which is located at 11555 Rockville Pike, Rockville, Maryland. The PDR's mailing address is USNRC PDR, Washington, DC 20555-0001. The PDR can also be reached by telephone at (301) 415-4737 or (800) 397-4205, by fax at (301) 415-3548, and by e-mail to PDR@nrc.gov.

Regulatory guides are not copyrighted, and Commission approval is not required to reproduce them.

Dated at Rockville, Maryland, this 2nd day of July, 2008.
For the Nuclear Regulatory Commission.
Stephen C. O'Connor,
Acting Chief, Regulatory Guide Development Branch, Division of Engineering, Office of Nuclear Regulatory Research.

[FR Doc. E8-15674 Filed 7-9-08; 8:45 am]

BILLING CODE 7590-01-P